COMMISSION ON CIVIL RIGHTS

Sunshine Act Notice

AGENCY: United States Commission on Civil Rights.

ACTION: Notice of meeting.

DATE AND TIME: Friday, October 22, 2010; 9:30 a.m. EDT.

PLACE: 624 9th St., NW., Room 540, Washington, DC 20425.

Meeting Agenda

This meeting is open to the public.

I. Approval of Agenda.

II. Program Planning.

• Approval of New Black Panther Party Enforcement Report.

• Consideration of Findings and Recommendations for Briefing Report on English-Only in the Workplace.

• Consideration of Policy on Commissioner Statements and Rebuttals.

• Update on Sex Discrimination in Liberal Arts College Admissions—Some of the discussion of this agenda item may be held in closed session.

• Update on Clearinghouse Project.

III. State Advisory Committee Issues.

• Kentucky SAC.

• Maryland SAC.

• Vermont SAC.

IV. Staff Director's Report.

V. Announcements.

VI. Approval of Minutes of October 8 Meeting.

VII. Adjourn.

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: October 12, 2010.
David Blackwood,
General Counsel.

[FR Doc. 2010-26048 Filed 10-12-10; 4:15 pm]

BILLING CODE 6335-01-P